DEPARTMENT OF HOMELAND SECURITY

Coast Guard

33 CFR Part 165

[Docket No. USCG-2008-0264]

RIN 1625-AA00

Safety Zone: Patchogue Bay, Patchogue, NY

AGENCY: Coast Guard, DHS.

ACTION: Notice of proposed rulemaking.

SUMMARY: The Coast Guard proposes to establish a safety zone for the Patchogue Grand Prix, a power boat race on Patchogue Bay off of Patchogue, New York on August 22, 23, and 24, 2008, and each year thereafter on dates and times specified in a Federal Register notice. The safety zone would provide for safety of navigation of the maritime public viewing and transiting near the power boat race in order to protect the maritime community from the hazards inherent with a power boat race, namely, a collision and loss of control of the vessels participating in this event. Entry into this zone would be prohibited unless authorized by the Captain of the Port Long Island Sound.

DATES: Comments and related material must reach the Coast Guard on or before July 14, 2008.

ADDRESSES: You may submit comments identified by Coast Guard docket number USCG-2008-0264 to the Docket Management Facility at the U.S. Department of Transportation. To avoid duplication, please use only one of the following methods:

(1) Online: http://www.regulations.gov.

(2) Mail: Docket Management Facility (M-30), U.S. Department of Transportation, West Building Ground Floor, Room W12-140, 1200 New Jersey Avenue, SE., Washington, DC 20590-0001.

(3) Hand delivery: Room W12-140 on the Ground Floor of the West Building, 1200 New Jersey Avenue, SE., Washington, DC 20590, between 9 a.m. and 5 p.m., Monday through Friday, except Federal holidays. The telephone number is 202-366-9329.

(4) Fax: 202-493-2251.

FOR FURTHER INFORMATION CONTACT: If you have questions on this proposed rule, call LT Kristen Schroeder, USCG Sector Long Island Sound, Prevention Department at (203) 486-4459. If you have questions on viewing or submitting material to the docket, call Renee V. Wright, Program Manager, Docket Operations, telephone 202-366-9826.

SUPPLEMENTARY INFORMATION:

Public Participation and Request for Comments

We encourage you to participate in this rulemaking by submitting comments and related materials. All comments received will be posted, without change, to http://www.regulations.gov and will include any personal information you have provided. We have an agreement with the Department of Transportation (DOT) to use the Docket Management Facility. Please see DOT's “Privacy Act” paragraph below.

Submitting Comments

If you submit a comment, please include the docket number for this rulemaking (USCG-2008-0264), indicate the specific section of this document to which each comment applies, and give the reason for each comment. We recommend that you include your name and a mailing address, an e-mail address, or a phone number in the body of your document so that we can contact you if we have questions regarding your submission. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period. We may change this proposed rule in view of them.

Viewing Comments and Documents

To view comments, as well as documents mentioned in this preamble as being available in the docket, go to http://www.regulations.gov at any time. Enter the docket number for this rulemaking (USCG-2008-0264) in the Search box, and click “Go >>.” You may also visit either the Docket Management Facility in Room W12-140 on the ground floor of the DOT West Building, 1200 New Jersey Avenue, SE., Washington, DC 20590, between 9 a.m. and 5 p.m., Monday through Friday, except Federal holidays; or the Prevention Department at Coast Guard Sector Long Island Sound, 120 Woodward Ave, New Haven, CT 06512 between 9 a.m. and 3 p.m., Monday through Friday, except Federal holidays.

Privacy Act

Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://DocketsInfo.dot.gov.

Public Meeting

We do not now plan to hold a public meeting. But you may submit a request for one to the Docket Management Facility at the address under ADDRESSES explaining why one would be beneficial. If we determine that one would aid this rulemaking, we will hold one at a time and place announced by a later notice in the Federal Register.

Background and Purpose

OPA Racing LLC of Brick, NJ is sponsoring a power boat race in Patchogue Bay, Patchogue, NY on the 22nd, 23rd and 24th of August, 2008. A safety zone is necessary to protect the maritime community from the hazards associated with a power boat race. The safety zone would be enforced from 11 a.m. to 5 p.m on each day of the three-day event to accommodate the practice sessions and the race. The Coast Guard proposes to permanently establish this safety zone and enforce it in future years on particular days and times specified via announcement in the Federal Register.

Patchogue Bay is located on the south shore of Long Island, New York. The boat race consists of approximately 40 power boats performing at high rates of speed in close proximity to other power boats over a specified area of Patchogue Bay, Patchogue, NY. The Coast Guard is proposing this safety zone in order to provide for the safety of the maritime community and spectators viewing the power boat race from the water should an accident, such as a collision of the competing power boats, occur during the race.

Discussion of Proposed Rule

The permanent safety zone would be enforced during the testing of the powerboats on days prior to the race as well as during the race itself. For 2008, the safety zone would be enforced on August 22 and 23, 2008 and the day of the race, August 24, 2008. In 2008, the safety zone would be enforced from 11 a.m. until 5 p.m. during the event and testing sessions. This will provide for sufficient time to clear the safety zone area prior to the testing session and the start of the race, as well as additional time should testing or the race run over the scheduled period. Dates and times for future occurrences of the race and the enforcement of the safety zone will be announced in the Federal Register. Prior to enforcement of the safety zone, Coast Guard Sector Long Island Sound will cause notice of the enforcement of the safety zone to be made by all appropriate means to ensure the widest publicity among the affected segments of the public and will include publication in the local notice to mariners, marine information broadcasts, and facsimile. The safety zone would be established on the navigable waters of Patchogue Bay as bounded by the following geographic coordinates: Beginning at a point on land in Patchogue, NY at approximate position 40°44′56″ N, 073°00′49″ W, then running south to a point in Patchogue Bay at approximate position 40°44′29″ N, 073°00′49″ W; then running south east to a point in Great South Bay at approximate position 40°43′47″ N, 072°59′54″ W; then running east to approximate position 40°43′53″ N, 072°58′46″ W; then to approximate position 40°43′57″ N, 072°57′06″ W, then north to a point on land at approximate position 40°44′29″ N, 072°57′09″ W. All coordinates are North American Datum 1983.

The Captain of the Port anticipates minimal negative impact on vessel traffic because of this safety zone due to the limited area covered by this safety zone and the short enforcement period. Any violation of the proposed temporary safety zone described herein would be punishable by, among others, civil and criminal penalties, in rem liability against the offending vessel, and license sanctions.

Regulatory Evaluation

This proposed rule is not a “significant regulatory action” under section 3(f) of Executive Order 12866, Regulatory Planning and Review, and does not require an assessment of potential costs and benefits under section 6(a)(3) of that Order. The Office of Management and Budget has not reviewed it under that Order.

We expect the economic impact of this proposed rule to be so minimal that a full Regulatory Evaluation is unnecessary.

This regulation may have some impact on the public, but the potential impact will be minimized for the following reasons: the zone would only be enforced for a maximum of eight hours on three specific days, and vessels may transit in all areas around the zone at all times.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. This rule may affect the following entities, some of which may be small entities: the owners or operators of vessels intending to transit or anchor in those portions of Patchogue Bay, Patchogue, New York and marinas located within Patchogue Bay covered by the safety zone that temporarily may not be able to receive customers. The economic impact on these small entities is not significant as vessels will be able to transit around the safety zone and in all other navigable portions of Patchogue Bay while the safety zone is being enforced and vessels desiring to transit to marinas located within the vicinity of the safety zone may request permission from the Captain of the Port to enter and transit the zone.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact Lieutenant Kristen Schroeder, Prevention Department, Coast Guard Sector Long Island Sound at 203-468-4459. The Coast Guard will not retaliate against small entities that question or complain about this rule or any policy or action of the Coast Guard.

Collection of Information

This proposed rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Commandant Instruction M16475.lD which guides the Coast Guard in complying with the National Environmental Policy Act of 1969 (NEPA) (42 U.S.C. 4321-4370f), and have made a preliminary determination that this action is not likely to have a significant effect on the human environment. A preliminary “Environmental Analysis Check List” supporting this preliminary determination is available in the docket where indicated under ADDRESSES. We seek any comments or information that may lead to the discovery of a significant environmental impact from this proposed rule.

List of Subjects in 33 CFR Part 165

Harbors, Marine safety, Navigation (water), Reporting and recordkeeping requirements, Security measures, and Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1226 and 1231; 46 U.S.C. Chapter 701; 50 U.S.C. 191; 33 CFR 1.05-1, 6.04-1, 6.04-6, and 160.5; Pub. L. 107-295, 116 Stat. 2064; Department of Homeland Security Delegation No. 0170.1.

2. Add § 165.158 to read as follows:

§ 165.158 Safety Zone: Patchogue Grand Prix, Patchogue Bay, Patchogue, NY.

(a) Location. The following area is a safety zone: All navigable waters of Patchogue Bay, NY bounded by an area beginning at a point on land in Patchogue, NY at approximate position 40°44′56″ N, 073°00′49″ W; then running south to a point in Patchogue Bay at approximate position 40°44′29″ N, 073°00′49″ W; then running south east to a point in Great South Bay at approximate position 40°43′47″ N, 072°59′54″ W; then running east to approximate position 40°43′53″ N, 072°58′46″ W; then to approximate position 40°43′57″ N, 072°57′06″ W; then north to a point on land at approximate position 40°44′29″ N, 072°57′09″ W. All coordinates are North American Datum 1983.

(b) Definitions. The following definitions apply to this section: Designated on-scene patrol personnel, means any commissioned, warrant and petty officers of the U.S. Coast Guard operating Coast Guard vessels who have been authorized to act on the behalf of the Captain of the Port, Long Island Sound.

(c) Regulations. (1) The general regulations contained in 33 CFR § 165.23 apply.

(2) In accordance with the general regulations in § 165.23 of this part, entry into or movement within this zone is prohibited unless authorized by the Captain of the Port, Long Island Sound.

(3) All persons and vessels must comply with the Coast Guard Captain of the Port or the designated on-scene patrol personnel.

(4) Upon being hailed by a U.S. Coast Guard vessel by siren, radio, flashing light or other means, the operator of the vessel must proceed as directed.

(5) Persons and vessels may request permission to enter the zone on VHF-16 or via phone at (203) 468-4401.

(d) Enforcement Period. This rule will be enforced from 11 a.m. to 5 p.m. on August 22, 23, and 24, 2008 and each year thereafter on dates and times specified in a Federal Register notice.

Dated: May 12, 2008.
Daniel A. Ronan,
Captain, U.S. Coast Guard, Captain of the Port Long Island Sound.

[FR Doc. E8-13143 Filed 6-11-08; 8:45 am]

BILLING CODE 4910-15-P